DEPARTMENT OF THE TREASURY

Submission for OMB Review; Comment Request

October 22, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before November 29, 2001 to be assured of consideration.

Departmental Offices/Office of Community Adjustment and Investment Programs

OMB Number: 1505-0181.

Form Number: None.

Type of Review: Reinstatement.

Title: Community Adjustment and Investment Program Grant Program Application.

Description: The Department of the Treasury (Treasury), as Chair of the inter-agency committee established by Executive Order No, 12916, dated May 13, 1994, is sponsoring the North American Development Bank's (NADBank) collection of application information from applicants for United States Community Adjustment and Investment Program (USCAIP) grant funds. Respondents will be State and Local Governments, Institutions of Higher Education, and Non-Profit Organizations. NADBank disburses USCAIP grants using monies transferred from Treasury. The information collected will be used to review and selected projects for NADBank USCAIP grants.

Respondents: Not-for-profit institutions, State, Local or Tribal Government.

Estimated Number of Respondents: 150.

Estimated Burden Hours Per Respondent: 20 hours.

Frequency of Response: Annually.

Estimated Total Reporting Burden: 3,000 hours.

Clearance Officer: Lois K. Holland, (202) 622-1563, Departmental Offices, Room 2110, 1425 New York Avenue, NW., Washington, DC 20220.

OMB Reviewer: Alexander T. Hunt (202) 395-7860, Office of Management and Budget, Room 10202, New Executive Office Building, Washington, DC 20503.

Lois K. Holland,
Departmental Reports, Management Officer.

[FR Doc. 01-27269 Filed 10-29-01; 8:45 am]

BILLING CODE 4810-25-P